ENVIRONMENTAL PROTECTION AGENCY

40 CFR Part 300

[FRL-6869-4]

National Oil and Hazardous Substances Pollution Contingency Plan; National Priorities List

AGENCY: Environmental Protection Agency (EPA).

ACTION: Direct final deletion of the Superfund Site from the National Priorities List (NPL).

SUMMARY: EPA Region 5 announces the deletion of the Cliff/Dow Dump Superfund Site (Site) from the National Priorities List (NPL) and requests public comment on this action. The NPL constitutes appendix B of 40 CFR part 300 which is the National Oil and Hazardous Substance Pollution Continency Plan (NCP), which EPA promulgated pursuant to section 105 of the Comprehensive Environmental Response, Compensation and Liability Act of 1980, as amended, (CERCLA). EPA and the Michigan Department of Environmental Quality (MDEQ) have determined that the Site poses no significant threat to public health or the environment and, therefore, further remedial measures pursuant to CERCLA are not appropriate.

DATES: This “direct final” action will be effective November 17, 2000 unless EPA receives dissenting comments by October 18, 2000. If written dissenting comments are received, EPA will publish a timely withdrawal of the rule in the Federal Register informing the public that the rule will not take effect.

ADDRESSES: Comments may be mailed to Kenneth Glatz, Remedial Project Manager, or Gladys Beard, Associate Remedial Project Manager, U.S. Environmental Protection Agency, Superfund Division, U.S. EPA, Region 5, 77 W. Jackson Blvd., (SR-6J), Chicago, IL 60604. Requests for comprehensive information on this Site is available through the public docket which is available for viewing at the Site Information Repositories at the following locations: U.S. EPA Region 5, Administrative Records, 77 W. Jackson Blvd., Chicago, IL 60604, 312-886-0900; and the Peter White Public Library, 217 N. Front St., Marquette, Michigan 49855 until September 22, 2000, after September 22, 2000 the Northern Michigan University's Lydia Olson Hall and the Michigan Department of Environmental Quality, Knapps Building, 300 S. Washington St., Lansing, Michigan 48933.

FOR FURTHER INFORMATION CONTACT: Kenneth Glatz or Gladys Beard (SR-6J), U.S. Environmental Protection Agency, 77 W. Jackson, Chicago, IL, (312) 886-7253, FAX (312) 886-4071, e-mail beard.gladys@epa.gov, or Bruce VanOtteren, Michigan Department of Environmental Quality, P.O Box 30426, Lansing, MI, 48909.

SUPPLEMENTARY INFORMATION:

Table of Contents

I. Introduction

II. NPL Deletion Criteria

III. Deletion Procedures

IV. Basis of Intended Site Deletion

V. Action

I. Introduction

The Environmental Protection Agency (EPA) Region 5 announces the deletion of the Cliff/Dow Dump Site, Marquette, Marquette County, Michigan, from the National Priorities List (NPL), appendix B of the National Oil and Hazardous Substances Pollution Contingency Plan (NCP), 40 CFR part 300. EPA identifies sites that appear to present a significant risk to public health, welfare, or the environment and maintains the NPL as the list of these sites. EPA and the State of Michigan have determined that the remedial action for the Site has been successfully executed. EPA will accept comments on this action for thirty days after publication of this action in the Federal Register.

Section II of this action explains the criteria for deleting sites from the NPL. Section III discusses the procedures that EPA is using for this action. Section IV discusses the history of the Cliff/Dow Site and explains how the Site meets the deletion criteria. Section V states EPA's action to delete the Site from the NPL unless dissenting comments are received during the comment period.

II. NPL Deletion Criteria

Section 300.425(e) of the NCP provides that Sites may be deleted from, or recategorized on the NPL where no further response is appropriate. In making a determination to delete a Site from the NPL, EPA shall consider, in consultation with the state, whether any of the following criteria has been met:

(i) Responsible parties or other persons have implemented all appropriate response actions required;

(ii) All appropriate Fund-financed response under CERCLA has been implemented, and no further response action by responsible parties is appropriate; or

(iii) The remedial investigation has shown that the release poses no significant threat to public health or the environment and, therefore, taking of remedial measures is not appropriate.

Even if the Site is deleted from the NPL, where hazardous substances, pollutants, or contaminants remain at the site above levels that allow for unlimited use and unrestricted exposure, EPA's policy is that a subsequent review of the Site will be conducted at least every five years after the initiation of the remedial action at the Site to ensure that the Site remains protective of public health and the environment. In the case of this Site, EPA will not conduct any five year reviews since no wastes were left on Site. EPA determined that conditions at the Site remain protective of public health and the environment. As explained below, the Site meets the NCP's deletion criteria listed above. If new information becomes available which indicates a need for further action, EPA may initiate remedial actions. Whenever there is a significant release from a site deleted from the NPL, the site shall be restored to the NPL without the application of the Hazard Ranking System (HRS).

III. Deletion Procedures

The following procedures were used for the intended deletion of the Site:

(1) All appropriate responses under CERCLA have been implemented and no further action by EPA is appropriate; (2) The MDEQ concurred with the proposed deletion decision; (3) A notice has been published in the local newspaper and has been distributed to appropriate federal, state, and local officials and other interested parties announcing the commencement of a 30-day dissenting public comment period on EPA's Direct Final Action to Delete; and, (4) All relevant documents have been made available for public review in the local Site information repositories. EPA is requesting only dissenting comments on the Direct Final Action to Delete.

For deletion of the Site, EPA's Regional Office will accept and evaluate public comments on EPA's Final Notice before making a final decision to delete. If necessary, the Agency will prepare a Responsiveness Summary, responding to each significant comment submitted during the public comment period. Deletion of the Site from the NPL does not itself create, alter, or revoke any individual's rights or obligations. The NPL is designed primarily for informational purposes and to assist Agency management. As mentioned in Section II of this document, § 300.425(e)(3) of the NCP states that the deletion of a Site from the NPL does not preclude eligibility for future response actions.

IV. Basis for Intended Site Deletion

The following site summary provides the Agency's rationale for the proposal to delete this Site from the NPL.

Site Background and History

The Cliff/Dow Disposal Site is located in the north half of section 10 T48N, R25W of Marquette County, in a wooded area off County Road 550, about one half mile west of Dead River in the City of Marquette, Michigan. The two-acre Site is currently owned by the City of Marquette, and is zoned “deferred use”. Recreational activity in the area is concentrated along the river and associated with sport fishing. The area around the Site is largely undeveloped. A small area to the east of the Site, and property to the north of the Site is zoned industrial. A tourist park, operated by the City of Marquette, is located southeast of the Site across the river.

The Ciff/Dow Chemical Company was the operator of the Site from 1954 until the mid 1960's. The Dow Chemical Company and The Cleveland Cliffs Company owned the stock of the Cliff/Dow Chemical Company. In 1968 the Georgia-Pacific corporation and the E.L. Bruce Company acquired the stock of the Cliff/Dow Chemical Company from the Dow Chemical Company and the Cleveland-Cliffs Iron Company, and continued to do business under the name of Royal Oak Charcoal Company. During this time period, hazardous substances were disposed in a small bog depression at the County Road 550 Site.

In 1981 hikers reported to Marquette city officials of having their clothing contaminated by surface tar at the fill area. Subsequent sampling and analysis of fill material by the EPA in 1982 indicated the presence of high concentrations of organic Hazardous Substance List (HSL) compounds, primarily polyaromatic hydrocarbons (PAHs) and phenols. EPA placed the Cliff/Dow Site on the Federal National Priorities List (NPL) of hazardous waste sites in September 1983. The Dow Chemical Company, the Cleveland Cliffs Iron Company, the Georgia-Pacific Corporation, and the City of Marquette were sent Special Notice Letters pursuant to section 122 of CERCLA. These letters stated that they were considered Potentially Responsible Parties (PRP's) at the Cliff-Dow Superfund Site, and requested their participation in the remediation of the fill area. On September 25, 1984, in response to a release or a substantial threat of a release of hazardous substances at or from the Site, the PRP's signed a 106 Administrative Consent Order for conducting a Remedial Investigation/Feasibility Study (RI/FS) and pre-design for the Site. A snow fence was placed around the fill in November 1984 to deter unauthorized entry. In November 1984, RI/FS field work began. The RI report was completed in August 1987, and the FS was completed in April 7, 1989. In September 1989, a Record of Decision (ROD) was issued by the EPA for the Site. The Proposed Plan had selected off-site disposal of the fill material for the proposed remedy. During the Public comment period the PRP's requested that the EPA allow them to demonstrate that on-site biological treatment would meet all nine remedy selection criteria and be more cost effective than off-site disposal. All factors considered, EPA determined that enhanced biological treatment of the residually contaminated fill material would be a viable innovative treatment technology. It would be the selected remedy if it could be demonstrated during the remedial design pilot studies, that the ROD requirements could be achieved by on-site biological treatment in a reasonable time frame. The major components of the selected remedial action in the ROD included:

• Excavation and treatment, via incineration, of approximately 200 cubic yards of exposed tar;

• Excavation, segregation and treatment, via incineration, of approximately 200 cubic yards of buried tar;

• Excavation and treatment, via enhanced biological treatment, of approximately 9,200 cubic yards of residual contaminated fill material;

• Import of clean backfill and topsoil cover/revegetation of excavation area;

• Site deed restrictions that prevent installation of drinking water wells within the vicinity of the contaminated groundwater boundaries and the disturbance of fill material until health based remedial action goals had been achieved; and

• Groundwater/air monitoring program to confirm the adequacy of enhanced biological treatment of residual contaminated fill material and in-situ biotreatment of residual groundwater contamination.

On June 27, 1990, the remedial action for the excavation and incineration of exposed and readily accessible tar was completed. The tar was excavated and incinerated at an off-site incinerator. On January 4, 1992, the Marquette County Health Department issued an Order prohibiting installation of any water wells on the Site until future factual evidence shows that the groundwater is suitable for use as drinking water at this location. On November 25, 1992, the City of Marquette placed Restrictive Covenants on the fill area restricting activities at the Site that may result in human health exposure greater than the cleanup standards in the ROD. These activities satisfy the institutional control and deed restriction requirements of the ROD. In August 1993, the PRPs issued the results of a bench scale Forced Air Biological Treatment (FABT) study. The FABT did not demonstrate that the ROD clean-up values could be obtained at a reasonable cost, in a reasonable time frame. Further requests by the Agency for more comprehensive site characterization indicated that the tar fraction was more extensive than the RI had indicated. Field studies by the PRP's to demonstrate that the tar could be segregated from the fill material were also unsuccessful. On July 5, 1995, consistent with the Proposed Plan, and as provided for in the ROD, the PRPs accepted a Unilateral Order for removal and disposal of all tar and fill from the Site with contamination above ROD clean up levels, and quarterly monitoring of select Site wells for a one year period.

In the summer of 1995, the PRPs excavated 28,000 tons of contaminated Site material, sent it to an off-site licensed landfill for disposal, and replaced it with clean borrow material and seeded. Four quarterly groundwater monitoring events occurred at the Site after the remedy was complete. One well showed trace amounts of benzene, these results being consistent with early RI findings. Results of all other wells were either non-detect or well below risk and hazard index criteria. Confirmatory Sampling at Dead River also supported the findings that there was no groundwater problem.

The groundwater monitoring program implemented during the quarterly Operation and Maintenance (O & M) phase was performed in accordance with the approved Quality Assurance Project Plan for O & M. The laboratory used for the analysis of the groundwater samples was determined to be acceptable for use by the U.S. EPA Region 5 Environmental Sciences Division based on previous laboratory audits. Split samples were also analyzed by the MDNR, and were in agreement with the PRPs results. The post RA groundwater analytical results were below health based concerns. Therefore, EPA and the MDEQ have decided to remove this Site from the NPL.

V. Action

The remedy selected for this Site has been implemented in accordance with the ROD. The remedy has resulted in the significant reduction of the long-term potential for release of contaminants, therefore, threats to human health and the environment have been minimized. EPA and the State of Michigan find that the remedy implemented continues to provide adequate protection of human health in the environment.

The MDEQ concurs with the EPA that the criteria for deletion of the Site have been met. Therefore, EPA is deleting the Site from the NPL.

This action will be effective November 17, 2000. However, if EPA receives dissenting comments by October 18, 2000, EPA will publish a document that withdraws this action.

List of Subjects in 40 CFR Part 300

Environmental protection, Air pollution control, Chemicals, Hazardous substances, Hazardous Waste, Intergovernmental relations, Penalties, Reporting and recordkeeping requirements, Superfund, Water pollution control, Water supply.

Dated: September 6, 2000.
David A. Ullrich,
Acting Regional Administrator, Region 5.

Part 300, title 40 of chapter I of the Code of Federal Regulations is amended as follows:

PART 300—[AMENDED]

1. The authority citation for part 300 continues to read as follows:

Authority: 33 U.S.C. 1321 (c)(2); 42 U.S.C. 9601-9657; E.O. 12777,56 FR 54757, 3 CFR, 1991 Comp.; p.351; E.O. 12580, 52 FR 2923, 3 CFR, 1987 Comp.; p.193.

Appendix B—[Amended]

2. Table 1 of appendix B to part 300 is amended by removing the site for “Cliff/Dow Dump, Marquette, Michigan.”

[FR Doc. 00-23641 Filed 9-15-00; 8:45 am]

BILLING CODE 6560-50-P